DEPARTMENT OF TRANSPORTATION

Federal Railroad Administration

[Docket Number FRA-2024-0097]

Petition for Waiver of Compliance

Under part 211 of title 49 Code of Federal Regulations (CFR), this document provides the public notice that by letter dated August 5, 2024, SMS Rail Service (SLRS) petitioned the Federal Railroad Administration (FRA) for a special approval pursuant to 49 CFR part 215 (Railroad Freight Car Safety Standards), and a waiver of compliance from both 49 CFR part 215 and 49 CFR part 223 (Safety Glazing Standards—Locomotives, Passenger Cars and Cabooses). FRA assigned the petition Docket Number FRA-2024-0097.

Specifically, SLRS requests a special approval pursuant to § 215.203, Restricted cars, for 3 cars (SLRS 51651, SLRS 17695, and SLRS 10301) that are more than 50 years from the dates of original construction. SLRS also seeks relief from § 215.303, Stenciling of restricted cars, and 49 CFR part 223 for safety glazing, on the 3 cars. The cars will operate on SLRS trackage in differing capacities in tourist excursion service. SLRS 51651 will primarily be used to store seasonal supplies and SLRS 17695 will primarily be used in maintenance-of-way service.

In its petition, SLRS stated that “the cars have been restored to their original, as-built appearance for tourist excursion and educational purposes” and that the adding the stenciling and safety glazing required by the regulations would “detract from the historical and educational impression [the] cars are intended to preserve.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by December 23, 2024 will be considered by FRA before final action is taken. Comments received after that date will be considered if practicable. Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-24455 Filed 10-21-24; 8:45 am]

BILLING CODE 4910-06-P